DEPARTMENT OF ENERGY

Federal Energy Regulatory Commission

Combined Notice of Filings #2

November 6, 2006.

Take notice that the Commission received the following electric rate filings:

Docket Numbers: ER01-205-014; ER98-2640-012; ER98-4590-010; ER99-1610-018.

Applicants: Xcel Energy Services Inc.; Northern States Power Company; Northern States Power Company (Wisconsin); Public Service Company of Colorado; Southwestern Public Service Company.

Description: Xcel Energy Services Inc. on behalf of Northern States Power Co submits a change in status report to NSP's market-based rate authority.

Filed Date: 11/02/2006.

Accession Number: 20061102-5052.

Comment Date: 5 p.m. Eastern Time on Friday, November 24, 2006.

Docket Numbers: ER03-985-001.

Applicants: El Cap II, LLC.

Description: El Cap II, LLC submits its Triennial Updated Market Power Analysis Report.

Filed Date: 10/30/2006.

Accession Number: 20061101-0147.

Comment Date: 5 p.m. Eastern Time on Monday, November 20, 2006.

Docket Numbers: ER06-451-010.

Applicants: Southwest Power Pool, Inc.

Description: Southwest Power Pool, Inc submits revisions to its Open Access Transmission Tariff effective 2/1/07.

Filed Date: 11/02/2006.

Accession Number: 20061103-0103.

Comment Date: 5 p.m. Eastern Time on Friday, November 24, 2006.

Docket Numbers: ER07-115-000.

Applicants: ISO New England Inc.

Description: ISO New England Inc submits its 2007 Capital Budget and Capital Budget Quarterly Filing for the Third Quarter of 2006.

Filed Date: 10/31/2006.

Accession Number: 20061102-0072.

Comment Date: 5 p.m. Eastern Time on Tuesday, November 21, 2006.

Docket Numbers: ER07-118-000.

Applicants: ISO New England Inc.

Description: ISO New England Inc submits an informational filing which clarifies the treatment of Hydro-Quebec Interconnection Capability Credit.

Filed Date: 10/31/2006.

Accession Number: 20061102-0073.

Comment Date: 5 p.m. Eastern Time on Tuesday, November 21, 2006.

Docket Numbers: ER07-119-000.

Applicants: Central Hudson Gas & Electric Corporation.

Description: Central Hudson Gas & Electric Corp submits an executed Interconnection Agreement with the City of New York dated 10/31/06.

Filed Date: 10/31/2006.

Accession Number: 20061102-0074.

Comment Date: 5 p.m. Eastern Time on Tuesday, November 21, 2006.

Docket Numbers: ER07-120-000.

Applicants: Western Electricity Coordinating Council.

Description: Western Electricity Coordinating Council submits Sixth Amendment to the Reliability Criteria Agreement with Arizona Electric Power Cooperative, Inc, et al.

Filed Date: 10/31/2006.

Accession Number: 20061102-0075.

Comment Date: 5 p.m. Eastern Time on Tuesday, November 21, 2006.

Docket Numbers: ER07-121-000.

Applicants: Allegheny Energy, Inc.; Monongahela Power Company; Allegheny Energy Supply Company, LLC.

Description: Allegheny Energy, Inc, Monongahela Power Co and Allegheny Energy Supply Co, LLC to submit a request for waivers of certain code of conduct requirements.

Filed Date: 10/31/2006.

Accession Number: 20061102-0077.

Comment Date: 5 p.m. Eastern Time on Tuesday, November 21, 2006.

Docket Numbers: ER07-122-000.

Applicants: Interstate Power and Light Company.

Description: Interstate Power and Light Co submits a request to change rates charged to its jurisdictional customers in Iowa, Illinois and Minnesota.

Filed Date: 10/31/2006.

Accession Number: 20061102-0078.

Comment Date: 5 p.m. Eastern Time on Tuesday, November 21, 2006.

Docket Numbers: ER07-123-000.

Applicants: LSP South Bay, LLC.

Description: LSP South Bay, LLC submits revisions to certain Reliability Must-Run Rate Schedules of its Reliability Must Run Agreement with the California Independent System Operator Corp.

Filed Date: 10/31/2006.

Accession Number: 20061102-0076.

Comment Date: 5 p.m. Eastern Time on Tuesday, November 21, 2006.

Docket Numbers: ER07-125-000.

Applicants: Keystone Energy Partners, LP.

Description: Keystone Energy Partners, LP submits a Petition for Acceptance of Initial Tariff, Waiver and Blanket Authority.

Filed Date: 10/31/2006.

Accession Number: 20061102-0181.

Comment Date: 5 p.m. Eastern Time on Tuesday, November 21, 2006.

Docket Numbers: ER07-126-000.

Applicants: Southwest Power Pool, Inc.

Description: Southwest Power Pool, Inc submits an executed service agreement for Firm Point-To-Point Transmission Service with Kansas City Power and Light Company.

Filed Date: 11/02/2006.

Accession Number: 20061102-0183.

Comment Date: 5 p.m. Eastern Time on Friday, November 24, 2006.

Docket Numbers: ER07-127-000.

Applicants: California Independent System Operator Corporation.

Description: California Independent System Operator Corp submits an Amended Outage Report to its Tariff.

Filed Date: 10/31/2006.

Accession Number: 20061102-0182.

Comment Date: 5 p.m. Eastern Time on Tuesday, November 21, 2006.

Docket Numbers: ER07-128-000.

Applicants: Wisconsin Public Service Corporation.

Description: Wisconsin Public Service Co submits three revised service agreements with Manitowoc Public Utilities et al., effective 1/1/07.

Filed Date: 10/31/2006.

Accession Number: 20061102-0178.

Comment Date: 5 p.m. Eastern Time on Tuesday, November 21, 2006.

Docket Numbers: ER07-129-000.

Applicants: Atlantic Path 15, LLC.

Description: Atlantic Path 15, LLC submits revisions to its Transmission Owner Tariff, FERC Electric Tariff Original Volume No 1.

Filed Date: 10/31/2006.

Accession Number: 20061102-0180.

Comment Date: 5 p.m. Eastern Time on Tuesday, November 21, 2006.

Docket Numbers: ER07-130-000.

Applicants: CalPeak Power-Vaca Dixon LLC.

Description: CalPeak Power-Vaca Dixon LLC submits the notice canceling Must-Run Service Agreement with California Independent System Operator Corporation, Inc, Rate Schedule No. 2.

Filed Date: 10/31/2006.

Accession Number: 20061102-0176.

Comment Date: 5 p.m. Eastern Time on Tuesday, November 21, 2006.

Docket Numbers: ER07-131-000; ER07-132-000; ER07-133-000.

Applicants: CalPeak Power-El Cajon LLC; Calpeak Power-Border, LLC; Calpeak Power-Enterprise, LLC.

Description: CalPeak Power LLC on behalf of CalPeak Entities submits modifications to certain schedules contained in the Reliability Must-Run Service Agreement with the California Independent System Operator Corp.

Filed Date: 10/31/2006.

Accession Number: 20061102-0177.

Comment Date: 5 p.m. Eastern Time on Tuesday, November 21, 2006.

Docket Numbers: ER07-134-000.

Applicants: Entergy Services, Inc.

Description: Entergy Services Inc submits Rate Schedule, First Revised Rate Schedule 170, for cost-based power sales for full requirements service to Brazos Electric Power Cooperative Inc.

Filed Date: 11/01/2006.

Accession Number: 20061103-0107.

Comment Date: 5 p.m. Eastern Time on Wednesday, November 22, 2006.

Docket Numbers: ER07-135-000.

Applicants: Entergy Services, Inc.

Description: Entergy Services, Inc on behalf of Entergy Gulf States, Inc, et al., submits EAI-EGS and EAI-EMI 2007 Bridge Contracts.

Filed Date: 11/01/2006.

Accession Number: 20061103-0113.

Comment Date: 5 p.m. Eastern Time on Wednesday, November 22, 2006.

Docket Numbers: ER07-137-000.

Applicants: Entergy Services, Inc.

Description: Entergy Services, Inc submits its third revised Network Integration Transmission Service Agreement w/ Louisiana Generating LLC.

Filed Date: 11/01/2006.

Accession Number: 20061103-0166.

Comment Date: 5 p.m. Eastern Time on Wednesday, November 22, 2006.

Docket Numbers: ER07-138-000.

Applicants: Central Vermont Public Service Corporation.

Description: Central Vermont Public Service Corp submits a notice of cancellation and cancelled rate schedule sheet terminating its Transmission and Interconnection Service Agreement with Morrisville Water & Light Department.

Filed Date: 11/01/2006.

Accession Number: 20061103-0162.

Comment Date: 5 p.m. Eastern Time on Wednesday, November 22, 2006.

Docket Numbers: ER07-139-000.

Applicants: Oklahoma Gas and Electric Company.

Description: Oklahoma Gas and Electric Co submits a notice of cancellation of a portion of its Rate Schedule 147, Agreement for Scheduling Exchange Service with Oklahoma Municipal Power Authority.

Filed Date: 11/01/2006.

Accession Number: 20061103-0163.

Comment Date: 5 p.m. Eastern Time on Wednesday, November 22, 2006.

Docket Numbers: ER07-140-000.

Applicants: Southern California Edison Company.

Description: Southern California Edison Company submits its revised rate sheets to the Amended & restated Eldorado System Conveyance and Co-Tenancy Agreement with Nevada Power Company et al.

Filed Date: 11/01/2006.

Accession Number: 20061103-0164.

Comment Date: 5 p.m. Eastern Time on Wednesday, November 22, 2006.

Docket Numbers: ER07-141-000.

Applicants: Florida Power Corporation.

Description: Florida Power Corp submits a cost-based power sales agreement with the City of Mount Dora, Florida.

Filed Date: 11/01/2006.

Accession Number: 20061103-0165.

Comment Date: 5 p.m. Eastern Time on Wednesday, November 22, 2006.

Docket Numbers: ER07-142-000.

Applicants: California Independent System Operator Corporation.

Description: California Independent System Operator Corporation submits amendments to its tariff that modify the assignment of costs associated with energy exported from Participating Intermittent Resource Program.

Filed Date: 11/01/2006.

Accession Number: 20061103-0167.

Comment Date: 5 p.m. Eastern Time on Wednesday, November 22, 2006.

Docket Numbers: ER07-143-000.

Applicants: Duke Energy Carolina, LLC.

Description: Duke Energy Carolinas, LLC submits its 10/27/06 confirmation with North Carolina Electric Membership Corporation, effective 1/1/07.

Filed Date: 11/01/2006.

Accession Number: 20061103-0168.

Comment Date: 5 p.m. Eastern Time on Wednesday, November 22, 2006.

Docket Numbers: ER07-144-000.

Applicants: Central Vermont Public Service Corporation; Green Mountain Power Corporation.

Description: Central Vermont Public Service Corp et al. submit a revision to the Transmission Service Agreement designated as First Revised Rate Schedule 132 and First Revised Rate Schedule 188.

Filed Date: 11/01/2006.

Accession Number: 20061103-0169.

Comment Date: 5 p.m. Eastern Time on Wednesday, November 22, 2006.

Docket Numbers: ER07-145-000.

Applicants: Arizona Public Service Company.

Description: Arizona Public Service Co submits a Long-Term Power Transaction Agreement with PacifiCorp, Rate Schedule 182.

Filed Date: 11/01/2006.

Accession Number: 20061103-0170.

Comment Date: 5 p.m. Eastern Time on Wednesday, November 22, 2006.

Docket Numbers: ER07-146-000.

Applicants: Wabash Valley Energy Marketing, Inc.

Description: Wabash Valley Energy Marketing, Inc submits an application for acceptance of initial market-based rate tariff, waivers, and blanket authority, FERC Electric Original Volume No 1.

Filed Date: 11/01/2006.

Accession Number: 20061103-0160.

Comment Date: 5 p.m. Eastern Time on Wednesday, November 22, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19121 Filed 11-13-06; 8:45 am]

BILLING CODE 6717-01-P